DEPARTMENT OF AGRICULTURE

Animal and Plant Health Inspection Service

[Docket No. APHIS-2014-0045]

Notice of Request for Revision to and Extension of Approval of an Information Collection; Importation of Tomatoes From Spain, Chile, France, Morocco, and Western Sahara

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection associated with the regulations for the importation of tomatoes from Spain, Chile, France, Morocco, and Western Sahara.

DATES: We will consider all comments that we receive on or before September 15, 2014.

ADDRESSES: You may submit comments by either of the following methods:

• Federal eRulemaking Portal: Go to http://www.regulations.gov/#!docketDetail;D=APHIS-2014-0045.

• Postal Mail/Commercial Delivery: Send your comment to Docket No. APHIS-2014-0045, Regulatory Analysis and Development, PPD, APHIS, Station 3A-03.8, 4700 River Road Unit 118, Riverdale, MD 20737-1238.

Supporting documents and any comments we receive on this docket may be viewed at http://www.regulations.gov/#!docketDetail;D=APHIS-2014-0045 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the regulations for the importation of tomatoes from Spain, Chile, France, Morocco, and Western Sahara, contact Dr. Jo-Ann Bentz-Blanco, Trade Director, PIM, PPQ, APHIS, 4700 River Road Unit 140, Riverdale, MD 20737; (301) 851-2091. For copies of more detailed information on the information collection, contact Mrs. Celeste Sickles, APHIS' Information Collection Coordinator, at (301) 851-2908.

SUPPLEMENTARY INFORMATION: Title: Importation of Tomatoes From Spain, Chile, France, Morocco, and Western Sahara.

OMB Control Number: 0579-0131.

Type of Request: Revision to and extension of approval of an information collection.

Abstract: Under the Plant Protection Act (PPA, 7 U.S.C. 7701 et seq.), the Secretary of Agriculture is authorized to prohibit or restrict the importation, entry, or interstate movement of plants, plant products, and other articles to prevent the introduction of plant pests into the United States or their dissemination within the United States. As authorized by the PPA, the Animal and Plant Health Inspection Service (APHIS) regulates the importation of certain fruits and vegetables in accordance with the regulations contained in “Subpart-Fruits and Vegetables” (7 CFR 319.56 through 319.56-68).

The regulations in § 319.56-28 allow tomatoes from specified areas of Spain, Chile, France, Morocco, and Western Sahara to be imported into the United States subject to certain conditions designed to protect the tomatoes from infestation by Mediterranean fruit fly (Medfly). Allowing tomatoes to be imported necessitates the use of certain information collection activities, including phytosanitary certificates and maintaining records regarding trap placement and Medfly captures.

The information collection activities of phytosanitary certificates and maintenance of the specified records were approved by the Office of Management and Budget (OMB) under control number 0579-0131. However, when we reviewed the regulations, we discovered that a trust fund agreement, quality control program, box markings, and the registration of production sites, greenhouses, and treatment facilities were not included in the previous approval. In addition, for the estimated annual number of respondents indicated in our previous approval, we counted 34 national plant protection organizations (NPPOs), but the number of respondents should have been 10. There are only four NPPOs, one for each country, and also, in the previous approval, we did not count the businesses. Based on these adjustments, the estimated annual number of responses per respondent has increased from 72.88 to 246.3; however, the estimated total annual burden on respondents has decreased from 1,704 hours to 1,350 hours.

We are asking OMB to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public reporting burden for this collection of information is estimated to average 0.5481 hours per response.

Respondents: Importers, shippers, and NPPOs of the exporting countries.

Estimated annual number of respondents: 10.

Estimated annual number of responses per respondent: 246.3. Estimated annual number of responses: 2,463.

Estimated total annual burden on respondents: 1,350 hours. (Due to averaging, the total annual burden hours may not equal the product of the annual number of responses multiplied by the reporting burden per response.)

All responses to this notice will be summarized and included in the request for OMB approval. All comments will also become a matter of public record.

Done in Washington, DC, this 9th day of July 2014.
Kevin Shea,
Administrator, Animal and Plant Health Inspection Service.

[FR Doc. 2014-16531 Filed 7-14-14; 8:45 am]

BILLING CODE 3410-34-P